DEPARTMENT OF HEALTH AND HUMAN SERVICES

Centers for Disease Control and Prevention

Statement of Organization, Functions, and Delegations for Authority

Part C (Centers for Disease Control and Prevention) of the Statement of Organization, Functions, and Delegations of Authority of the Department of Health and Human Services (45 FR 67772-76, dated October 14, 1980, and corrected at 45 FR 69296, October 20, 1980, as amended most recently at 68 FR 65935-37, dated November 24, 2003) is amended to reflect the reorganization of the Epidemiology Program Office.

Section C-B, Organization and Functions, is hereby amended as follows:

Delete the mission statement for the Epidemiology Program Office (CB) and insert the following:

(1) Plans, directs, and managed CDC-wide training and service programs, including the Epidemic Intelligence Service (EIS), the Preventive Medicine Residency (PMR), and the Public Health Program Specialist (PHPS) programs, as well as various internship and fellowship programs; (2) plans, develops, edits, publishes and disseminates the Morbidity and Mortality Weekly Report (MMWR), related publications, and various scientific and health communication documents and special reports; (3) serves as a focal point for the development of innovative methods for the collection, analysis, and communication of public health surveillance information (e.g. National Electronic Telecommunications System for Surveillance, 121 Cities Mortality Reporting System, and CDC WONDER); (4) in collaboration with other Centers, Institute, and Offices (CIOs) and state health departments, coordinates, develops, implements, and supports various public health information systems for agency application; (5) provides consultation, technical assistance, and training on epidemiology, public health surveillance and informatics, health information systems, prevention effectiveness, scientific communications, behavioral science, statistics, and development of community health practice guidelines to CDC/ATSDR, states, other agencies, other countries, and domestic and international organizations; (6) provides epidemiologic assistance and epidemic aid through the field assignment of epidemiologists; (7) provides liaison with governmental agencies, international organizations, the Council of State and Territorial Epidemiologists, and other outside groups; (8) plans, conducts, and evaluates research activities in various aspects of disease and injury control for global programs; (9) promotes the development of international field epidemiologic training programs; (10) develops, promotes, and implements programs for international and domestic data policy formation for decision makers to identify information needs and to use information for improved decision making; (11) in carrying out the above functions, collaborates, as appropriate, with the CDC Office of the Director, other CDC CIOs, domestic and international agencies and organizations; and (12) organizes and establishes populations for research in urban areas.

Delete the functional statement for the Office of the Director (CB1) and insert the following:

(1) Manages, directs, coordinates, and evaluates the activities of EPO; (2) develops goals and objectives and provides leadership, policy formation, scientific oversight, and guidance in program planing and development; (3) coordinates EPO program activities with other CDC components, other PHS agencies, other federal agencies, other international organizations, state and local health departments, community-based organizations, business, and industry; (4) consults and coordinates activities with medical, scientific, and other professional organizations interested in epidemiology, public health surveillance and informatics, health information systems, terrorism and emergency response, behavioral science, statistics, scientific communications, community health practice guidelines, prevention effectiveness, and training activities; (5) ensures quality of scientific products of EPO staff and adherence to ethical principles and guidelines as specified in Department of Health and Human Services (DHHS) policy statements; (6) coordinates technical assistance to states, other nations and international organizations; (7) advises the Director, CDC, on policy matters concerning EPO activities; (8) conducts EPO planning and evaluation activities; (9) reviews, prepares, and coordinates legislation, congressional testimony, and briefing documents; (10) within the policies and guidelines of DHHS and CDC, conducts EPO planning and evaluation activities including tracking program objectives and performing evaluation studies; (11) coordinates the annual EPO program briefing, including preparation of all written and visual materials; (12) maintains liaison, on behalf of EPO, with the CDC Foundation and other similar organizations for the coordination of mutually beneficial collaborative activities; (13) plans and prepares EPO promotional and marketing materials; and (14) organizes and establishes populations for research in urban areas.

Delete the functional statement for the Office of Scientific and Health Communications (CB12) and insert the following: (1) Plans, coordinates, edits, and produces the MMWR series and various special reports and publications; (2) provides editorial services and support to EPO; (3) develops, implements, and evaluates innovative methods for the communication of scientific and health information by EPO and its domestic and international constituents; (4) assists EPO and its constituents in identifying and building needed expertise, state-of-the-art technology, logistical support, and other capacities required to conduct effective scientific and health communication in domestic and international settings; (5) provides expert consultation and training to EPO, other CIOs, and outside domestic and international constituencies on development of effective messages, materials, and methods to clearly and effectively communicate risks and prevention recommendations, including written, oral, and visual communication; (6) provides leadership, coordination, and collaboration for the planning and management of EPO communications with other CDC programs and outside organizations in scientific and health communications, including serving as the primary EPO liaison with the CDC Office of Communication; (7) works closely with state and federal agencies and EPO domestic and international constituents to develop health information networks and to promote information sharing; (8) in conjunction with the CDC Office of Communication, collaborates with organizations in the public and private sectors to market prevention strategies; (9) coordinates EPO's information-sharing activities, including involvement on the Internet; (10) develops, plans, coordinates, edits, and produces the weekly component of the MMWR series; (11) participates with other office personnel for the delivery of services and training to external organizations, both domestic and international, in the area of scientific and health communications; (12) provides EPO-wide desktop publishing support, including the support of the MMWR series; (13) develops, plans, coordinates, edits, and produces other components of the MMWR series, including the MMWR Recommendations and Reports, CDC Surveillance Summaries, and the Annual Summary of Notifiable Diseases; (14) plans, coordinates, edits, and produces other EPO and CDC program publications; (15) provides editorial services for work to be published outside CDC; (16) assists in review of EPO documents for editorial clearance for all publications; (17) develops and manages an internship program in scientific and health publications management; and (18) participates with other office personnel for the delivery of services and training to external organizations, both domestic and international, in scientific and health communications.

Delete the functional statement for the Office of Program Management and Operations (CB13) and insert the following:

(1) Provides leadership, oversight, and guidance in the management and operations of EPO's programs; (2) plans, coordinates, and provides administrative management support, advice, and guidance to EPO, involving the areas of fiscal management, personnel, travel, and other administrative services; (3) coordinates the development of the EPO annual budget submission; (4) directs and coordinates the activities of the office; (5) conducts management analyses of EPO programs and staff to ensure optimal utilization of resources and accomplishment of program objectives; (6) plans, allocates, and monitors EPO resources; (7) maintains liaison and collaborates with other CDC components and external organizations in support of EPO management and operations; (8) plans, coordinates, and provides information resource management support, advice, and guidance to EPO; (9) sets policies and procedures; (10) provides leadership and oversight of EPO's program management and operations; (11) plans, allocates, and monitors EPO-wide resources; (12) works closely with other federal agencies involved with EPO interagency agreements; (13) coordinates EPO requirements relating to procurement, materiel management, and intragency agreements; (14) provides fiscal management and stewardship of grants, contracts, and cooperative agreements; (15) develops and implements administrative policies, procedures, and operations, as appropriate for EPO, and prepares special reports and studies, as required, in the administrative management areas; and (16) conducts management analyses of EPO programs and resources to ensure optimal utilization of resources and accomplishment of program objectives.

Office of Strategic Alliance for Prevention (CB14). (1) Provides leadership to CDC and other organizations to promote and support effective partnerships for prevention; (2) provides leadership and supports CDC's activities related to managed care organizations, public and private purchasers of health care, public health agencies, accrediting organizations, the health care delivery system, consumers, and others; (3) provides leadership to CDC and other organizations to promote and support effective partnerships for prevention among the key players in the nation's health care delivery system, including managed care organizations, public and private purchasers of health care, State and local health departments, public health agencies, accrediting organizations, care providers, consumers, and others; (4) advises CIOs on program and research needs as they relate to managed care and partnerships for prevention; (5) represents CDC in work with other governmental agencies and the private sector to improve health care quality and patient safety through initiatives such as the cross-governmental QuIC (Quality Interagency Coordinating) Task Force, the National Quality Report, the National Quality Forum, and the National Committee for Quality; (6) administers and manages contract research related to systems of care delivery; (7) provides coordinative support for CDC's Clinical Performance Measurement Working Group and Managed Care Working Group; and (8) facilitates communication and collaboration between CDC scientists and managed care researchers.

Delete the mission statement for the Division of Prevention Research and Analytic Methods (CB7) and insert the following:

(1) Provides leadership to CDC and other organizations about best practices based on research and scientific evidence by conducting scientific research, developing analytic methods in prevention effectiveness, and producing evidence-based products; (2) develops evidence-based recommendations for the use or non-use of population-based health interventions; (3) promotes CDC's capacity to conduct collaborative health services research with other CDC CIOs, other federal agencies, and state and local health departments; (4) provides leadership in the acquisition, application, and evaluation of economic, and decision science methods for use in public health; (5) develops capacity in the public health community to conduct and use prevention effectiveness studies; (6) develops new methods for evaluating delivery of preventive services; (7) provides consultation, technical assistance and training on analytic methods in prevention effectiveness, including prevention effectiveness, epidemiologic, evaluation, and behavioral studies issues to CDC and to other agencies and domestic and international organizations; and (8) develops projects in defined urban populations in which to evaluate the effectiveness of prevention activities.

Delete the functional statement for the Office of the Director (CB71) and insert the following:

(1) Manages, directs, and coordinates the research agenda and activities of the division; (2) provides leadership and guidance and strategic planning, policy, program and project priority planning and setting, program management, and operations; (3) establishes division goals, objectives, and priorities; (4) monitors progress in implementation of projects and achievement of objectives; (5) plans, allocates, and monitors resources; (6) provides management administrative and support services, and coordinates with appropriate EPO offices on program and administrative matters; (7) provides liaison with other CDC organizations, other governmental agencies, international organizations, and other outside groups; (8) provides support for internal scientific advisory groups; (9) provides scientific leadership and guidance to the division to assure highest scientific quality and professional standards; (10) provides coordinative support for CDC's Behavioral and Social Sciences Work Group; and (11) develops within CDC outcome evaluation capacity and systematic methods for evaluating health outcomes.

Delete the title and functional statement for the Prevention Effectiveness Branch (CB72) and insert the following:

Prevention Effectiveness and Health Economics Branch (CB72). (1) Establishes capacity in the public health community to conduct and use economic and decision analysis; (2) provides and maintains leadership in the development, acquisition, application, and evaluation of economic, decision science methods for use in public health; (3) conducts research about methods for public health economics and decision making; (4) provides economic technical assistance and training, consultation, direction, review and information resources to other organizational units within EPO and throughout CDC; (5) integrates prevention research with policy needs; (6) assists in making recommendations for policy decisions on public health policy based on prevention effectiveness of each prevention strategy; (7) conducts systematic literature reviews on the effectiveness, cost effectiveness, and other effects of population-based health promotion and disease prevention strategies and identifies gaps in evidence which can inform additional research; (8) and supports CDC's Health Economics Research Group (HERG).

Delete in their entirety the titles and functional statements for the Community Preventive Services Guide Section (CB732) and the Evaluation and Behavioral Science Methods Section (CB733), within the Statistics and Epidemiology Branch (CB73), Division of Prevention Research and Analytic Methods (CB7).

After the Statistics and Epidemiology Branch (CB73), insert the following:

Community Guide and Evidence Branch (CB74). (1) Convenes and supports the independent Task Force on Community Preventive Services which develops evidence-based recommendations for the use or non-use of population-based health interventions; (2) produces and promotes use of the Guide to Community Preventive Services (Community Guide), a compilation of the systematic reviews, evidence-based recommendations, and research needs; (3) performs evidence reviews of the efficacy and effectiveness of prevention activities not associated with the Community Guide; (4) assists CDC and other Federal and non-Federal partners to understand, use, refine, and communicate methods for conducting systematic reviews; (5) assists CDC and other federal and non-Federal partners to link reviews of evidence to guidelines development and/or program implementation; (6) coordinates and manages large and diverse teams of internal and external partners in the systematic preview process; (7) coordinates and manages a working group of CDC, DHHS, and non-governmental partners to develop and/or refine methods for conducting systematic reviews; (8) provides consultations for implementing Community Guide recommended strategies; (9) coordinates and manages a working group of CDC, DHHS and non-governmental partners to diffuse Community Guide reviews, recommendations, and research needs to appropriate audiences throughout the U.S. health care and public health systems; (10) participates in the development of national and regional public/private partnerships to enhance prevention research and the translation of evidence into policy and action; (11) conducts scientific evaluation of the Division-related prevention activities; (12) identifies opportunities for and conducts passive and active dissemination of the Community Guide reviews and recommendations and integration of these products into decision-making process; (13) identifies and conducts passive and active dissemination of research needs identified in the Community Guide to key partners who have the capacity to fund and/or conduct additional research that would close gaps identified in the systematic reviews process; (14) communicates the Community Guide's reviews, recommendations, and research needs beyond the Morbidity and Mortality Weekly Report (MMWR) and the American Journal of Preventive Medicine (AJPM) publications via other journals, books, the world wide web, and other media; (15) designs and conducts programmatic, process and outcome evaluation strategies for all stages of development and diffusion of the Guide to Community Preventive Services; (16) creates materials and manages dissemination of the Community Guide and other Division tools that promote effective decision making and use of effective prevention tools; (17) assists in making recommendations for prevention and policy decisions; (18) provides technical assistance; (19) provides coordination support for CDC's Behavioral and Social Sciences Work Group; and (20) develops within CDC outcome evaluation capacity and systematic methods for evaluating health outcomes.

Dated: December 16, 2003.
William H. Gimson,
Chief Operating Officer, Centers for Disease Control and Prevention (CDC).

[FR Doc. 03-31907 Filed 12-31-03; 8:45 am]

BILLING CODE 4160-18-M